LEGAL SERVICES CORPORATION

Freedom of Information Act—General Notice of Organization, Function, Rules of Procedure, and Substantive Rules

AGENCY: Legal Services Corporation.

ACTION: General notice of the organization, function, rules of procedure, and substantive rules of the Legal Services Corporation.

SUMMARY: This notice is being published by LSC in accordance with 5 U.S.C. § 552(a)(1) and for the guidance and interest of the public.

FOR FURTHER INFORMATION CONTACT: Lisa Zurmuhlen, Administrative Officer and FOIA Liaison, Office of Legal Affairs, Legal Services Corporation, 750 First Street, NE, Washington, DC 20002-4250; 202/336-8922 (phone); 202/336-8952 (fax); lzurmuhlen@lsc.gov.

SUPPLEMENTARY INFORMATION: In accordance with section (a)(1) of the Freedom of Information Act (“FOIA”) 5 U.S.C. 552, LSC publishes in the Federal Register, for the guidance and interest of the public, the following general information concerning LSC:

(a) A description of the organization of the Corporation and the established places at which, the employees from whom, and the methods whereby, the public may obtain information, make submittals or requests, or obtain decisions;

(b) Statements of the general course and method by which LSC's functions are channeled and determined;

(c) Rules of procedure, descriptions of forms available or the places where forms may be obtained, and instructions on the scope and contents of all papers, reports, or examinations; and

(d) Substantive rules of general applicability adopted as authorized by law, and statements of general policy or interpretations of general applicability formulated and adopted by LSC.

I. Description of LSC

LSC is a private, non-profit corporation, headquartered in Washington D.C. and established by Congress in 1974 to assure equal access to justice under the law for all Americans. LSC is headed by a bipartisan Board of Directors appointed by the President and confirmed by the Senate. LSC does not provide legal services directly to indigent clients; rather it provides grants to independent local programs chosen through a system of competition. Currently, LSC funds 197 legal aid programs. Together these programs serve every county and congressional district in the nation, as well as the U.S. territories. In 2000, LSC grantees handled more than one million civil cases. The most common types of cases handled by LSC-funded programs involve family law, housing, employment, government benefits, and consumer issues. LSC-funded programs do not handle criminal cases, nor do they accept fee-generating cases that private attorneys are willing to accept on a contingency basis. LSC recipients are also prohibited from claiming or collecting attorney's fees and engaging in class actions, rulemaking, lobbying, litigation on behalf of prisoners, representation in drug-related public housing evictions, and representation of certain categories of aliens.

II. Organization

LSC consists of five major components: the Office of the President, the Office of Administration, the Office of Legal Affairs, the Office of Program Performance, and the Office of Governmental Relations and Public Affairs. In addition to these primary offices there is the Office of Inspector General. While the Office of Inspector General exists as part of LSC, the Office functions independently from the rest of the LSC components, with the Inspector General appointed directly by the LSC Board of Directors. The major functions and responsibilities of each of these components is described below.

Office of the President

The Office of the President is responsible for the implementation of Board policy and oversight of the Corporation's operations.

Office of Administration

The Office of Administration is comprised of the Office of Compliance and Enforcement, Office of Human Resources, Office of Financial and Administrative Services and Office of Information Technology.

The Office of Compliance and Enforcement (OCE) is responsible for ensuring that LSC grantees are complying with the laws, regulations, terms and conditions applicable to them as a condition of receipt of Federal funds. OCE conducts investigations and audits of grantees, responds to inquiries and complaints relating to grantee compliance with applicable law and regulations, processes requests for prior approvals and Private Attorney Involvement and fund balance waivers, and approves subgrant agreements.

The Office of Human Resources (OHR) develops and administers human resources policies, procedures, and strategies; and to provide advisory services on human resource issues to management and staff.

The Office of Financial and Administrative Services is comprised of the Office of the Comptroller and the Administrative Services Division. The Office of Comptroller maintains the efficiency of the Corporation's financial system and the integrity of its accounts, oversees procedures that generate all of the Corporation's financial transactions, and provides accounting and financial information to the LSC Board of Directors, the President and Office Directors. In addition to cash management, accounts payable, payroll, grants administration and other routine financial transactions, the Office of Comptroller generates annual and periodic financial reports and assists with the accumulation of data for LSC's Budget Request to Congress. The Administrative Services Division (ASD) provides day-to-day administrative support services to facilitate efficient operations of LSC.

The mission of the Office of Information Technology (OIT) is to develop, implement and maintain a networked computer environment, featuring a well defined integrated information system for LSC.

Office of Legal Affairs

The Office of Legal Affairs (OLA) serves as in-house counsel and chief legal advisor to the Corporation and performs the duties of Secretary of the Corporation. The General Counsel carries out traditional “lawyer” functions, including negotiating, drafting and reviewing legal instruments such as contracts, settlement agreements, releases, applications for funding, and grant documents, as well as representing LSC's interests in litigation, directly or through retention and oversight of outside counsel. OLA provides legal advice to the Corporation's Board of Directors and President, as well as to the various offices in the Corporation. Furthermore, the General Counsel is responsible for interpreting statutory requirements and drafting implementing regulations for consideration by the Board.

Office of Program Performance

The Office of Program Performance (OPP) is charged with the design and administration of the competitive grants process, the encouragement of competition, and the development and implementation of strategies to improve program quality. Program improvement efforts include identification of areas of weakness and follow-up for individual recipients, identification and sharing of innovations and “best practices” among recipients and others in the legal services delivery system, as well as broader strategies for improvement of the delivery system.

Under the OPP is the Office of Information Management (OIM), which is responsible for gathering and disseminating information about LSC grantees and the delivery of legal services. This responsibility includes the development of Internet-based applications for obtaining information about the delivery of legal services by LSC grantees, the identification and collection of information about the civil legal needs of eligible clients, and the sharing of that information with LSC staff, grantee staff, and other interested parties.

Office of Government Relations and Public Affairs

The Office of Governmental Relations and Public Affairs is responsible for managing LSC's communications and requests for information from Congress, the Executive Branch, the media, and the general public. The office coordinates the production of LSC's Fact Book and Annual Report.

Office of the Inspector General

The Office of the Inspector General (OIG) has two principal missions: to assist management in identifying ways to promote efficiency and effectiveness in the activities and operations of LSC and its grantees; and to prevent and detect fraud and abuse. The OIG's primary tool for achieving these missions is fact-finding through financial, performance and other types of audits and reviews, as well as investigations into allegations of wrongdoing. Its fact-finding activities enable the OIG to develop recommendations to LSC and grantee management for actions or changes that will correct problems, better safeguard the integrity of funds, improve procedures or otherwise increase efficiency or effectiveness.

III. Availability of Information

As an independent Corporation created by public law, LSC is governed by statute. The LSC Act and regulations provide guidance on the operation and responsibilities of LSC and its grantees. The Act can be found at 42 U.S.C. 2996 et. seq. and the regulations at 45 CFR part 1600 et. seq. Furthermore, both the Act and regulations are posted at LSC's website, which is given below. LSC is further subject to restrictions contained in its annual appropriations legislation. The current Appropriations Act for FY 2001 is located at Pub. L. 106-553, 114 Stat. 2762 (2000). In addition to the LSC Act, regulations, and appropriations legislation, other rules and instructions, governing LSC and its recipients, may be found in the Corporation's Program Letters, Audit Guide, Property Manual and formal legal opinions issued by the OLA. These documents are available to the public either online or upon request.

The LSC Act subjects the Corporation to both the Government in the Sunshine Act (5 U.S.C. 552b) and the Freedom of Information Act (5 U.S.C. 552). LSC's implementing regulations provide that meetings of the Board of Directors and of committees of the Board will be open to the public, except that certain meetings or portions thereof may be closed to public as provided by law and regulation. See 45 C.F.R. 1622.3 and 1622.5. LSC's FOIA regulations require that the Corporation make records concerning its operations, activities, and business available to the public to the maximum extent reasonably possible. 45 C.F.R. 1602.3. Thus, LSC maintains a public reading room at its offices and any person has the right to request LSC records in writing. The Corporation must release requested records to the requester unless they are protected from disclosure by the Freedom of Information Act (FOIA). Requests for records must be made in writing, with the envelope and the letter or the e-mail request clearly marked “Freedom of Information Request.” All such requests should be addressed to LSC's Office of Legal Affairs, 750 First Street, NE, Washington, DC, 20002. In addition, LSC maintains a “FOIA electronic reading room.” For further information on this electronic reading room, please visit LSC online at http://www.lsc.gov.

Other information regarding LSC's staff, location, functions, rules of procedure, substantive rules, statements of general policy or how the public may obtain information, make submissions or requests will also be found on the LSC website, as will links to legal services providers across the country. In addition, information about the OIG can be found at http://www.oig.lsc.gov.

Victor M. Fortuno,
General Counsel and Vice President for Legal Affairs.

[FR Doc. 01-14627 Filed 6-11-01; 8:45 am]

BILLING CODE 7050-01-P